ENVIRONMENTAL PROTECTION AGENCY

[EPA-HQ-SFUND-2014-0549; FRL-9921-24-OEI]

Information Collection Request Submitted to OMB for Review and Approval; Comment Request; Application for Reimbursement to Local Governments for Emergency Response to Hazardous Substance Releases Under CERCLA, Section 123 (Renewal)

AGENCY: Environmental Protection Agency (EPA).

ACTION: Notice.

SUMMARY: The Environmental Protection Agency has submitted an information collection request (ICR), “Application for Reimbursement to Local Governments for Emergency Response to Hazardous Substance Releases Under CERCLA, section 123 (Renewal)” (EPA ICR No. 1425.10, OMB Control No. 2050-0077) to the Office of Management and Budget (OMB) for review and approval in accordance with the Paperwork Reduction Act (44 U.S.C. 3501 et seq.). This is a proposed extension of the ICR, which is currently approved through January 31, 2015. Public comments were previously requested via the Federal Register (79 FR 45189) on Aug 4, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 19, 2015.

ADDRESSES: Submit your comments, referencing Docket ID Number EPA-HQ-SFUND-2014-0549, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lisa Boynton, Office of Solid Waste and Emergency Response, Office of Emergency Management, Mail Code 5104A, Environmental Protection Agency, 1200 Pennsylvania Ave. NW., Washington, DC 20460; telephone number: (202) 564-2487; fax number: (202) 564-8729; email address: Boynton.Lisa@epa.gov.

SUPPLEMENTARY INFORMATION: Supporting documents which explain in detail the information that the EPA will be collecting are available in the public docket for this ICR. The docket can be viewed online at www.regulations.gov or in person at the EPA Docket Center, William Jefferson Clinton West, Room 3334, 1301 Constitution Ave. NW., Washington, DC. The telephone number for the Docket Center is 202-566-1744. For additional information about EPA's public docket, visit http://www.epa.gov/dockets.

Abstract: The Agency requires applicants for reimbursement under this program authorized under Section 123 of CERCLA to submit an application that demonstrates consistency with program eligibility requirements. This is necessary to ensure proper use of the Superfund. EPA reviews the information to ensure compliance with all statutory and program requirements. The applicants are local governments who have incurred expenses, above and beyond their budgets, for hazardous substance response. Submission of this information is voluntary and to the applicant's benefit.

Form Numbers: 9310-1.

Respondents/affected entities: Local governments.

Respondent's obligation to respond: Voluntary (CERCLA Section 123).

Estimated number of respondents: 30 (total).

Frequency of response: On occasion.

Total estimated burden: 270 hours (per year). Burden is defined at 5 CFR 1320.3(b)

Total estimated cost: $4,995 (per year), includes $0 annualized capital or operation & maintenance costs.

Changes in the Estimates: There is a decrease of 270 hours in the total estimated respondent burden compared with the ICR currently approved by OMB. This decrease is due to the number of respondents reducing from 60 to 30.

Courtney Kerwin,
Acting Director, Collection Strategies Division.

[FR Doc. 2015-00768 Filed 1-16-15; 8:45 am]

BILLING CODE 6560-50-P